DEPARTMENT OF TRANSPORTATION

National Highway Traffic Safety Administration

[Docket No. NHTSA-2016-0131]

Reports, Forms and Record Keeping Requirements Agency Information Collection Activity Under OMB Review

AGENCY: National Highway Traffic Safety Administration (NHTSA), Department of Transportation (DOT).

ACTION: Notice and request for comments.

SUMMARY: In compliance with the Paperwork Reduction Act of 1995 (44 U.S.C. 3501 et seq.), this notice announces that the Information Collection Request (ICR) abstracted below has been forwarded to the Office of Management and Budget (OMB) for review and comment.

DATES: Comments must be submitted on or before May 22, 2017.

ADDRESSES: Comments should be directed to the Office of Information and Regulatory Affairs, Office of Management and Budget, 725 17th Street NW., Washington, DC 20503, Attention NHTSA Desk Officer.

FOR FURTHER INFORMATION CONTACT: Michael Kuppersmith, National Highway Traffic Safety Administration, Office of the Chief Counsel (NCC-0010), (202) 366-5263, 1200 New Jersey Avenue SE., Washington, DC 20590.

SUPPLEMENTARY INFORMATION: The information collection submission describes the nature of the information collections and their expected burden. NHTSA published a 60-day Federal Register notice for this collection on December 28, 2016 (81 FR 95729). The agency received 0 comments on that notice.

Title: Confidential Business Information.

Type of Request: Reinstatement of a currently approved collection.¹

¹ NHTSA published a 60-day notice seeking a renewal of Information Collection 2127-0025 on December 28, 2016. Because NHTSA will be unable to submit the request for renewal of this collection to OMB prior to the collection's expiration on April 30, 2017, we are now requesting that the approval for this collection be reinstated rather than requesting that the approval be renewed.

Form Number: This collection of information uses no standard forms.

Requested Expiration Date of Approval: Three (3) years from the date of approval of the collection.

OMB Control Number: 2127-0025.

Frequency: Submission of information pursuant to this regulation will depend on the frequency with which a given entity, such as a manufacturer of motor vehicles or motor vehicle equipment, submits information and a request that NHTSA hold the information confidential, generally pursuant to Exemption 4 of the Freedom of Information Act (FOIA), 5 U.S.C. 552(b)(4).

Affected Public: This collection of information would apply to any person who seeks to have NHTSA treat as confidential information submitted to NHTSA either voluntarily or pursuant to a mandatory information request issued by NHTSA. Thus, the collection of information could apply to any of the entities over which NHTSA exercises regulatory authority. Recent trends lead NHTSA to estimate that it will receive approximately 500 requests for confidential treatment per year throughout the duration of this collection. Large manufacturers make the vast majority of requests for confidential treatment.

Abstract: NHTSA's Confidential Business Information (CBI) rule, coupled with case law, has governed the submission of requests for confidential treatment of information for over 20 years.

Estimated Annual Burden: Using the above estimate of approximately 500 requests for confidentiality per year, with an estimated eight hours of preparation to collect and provide the information, at an assumed rate of $24.92 per hour, the annual estimated cost of collecting and preparing the information necessary for 500 complete requests for confidential treatment is about $99,680 (8 hours of preparation × 500 requests × $24.92). Adding in a postage cost of $3,325 (500 requests at a cost of $6.65 for postage (priority flat rate envelope from USPS)), we estimate that it will cost $103,005 per year for persons to prepare and submit the information necessary to satisfy the confidential business information provisions of 49 CFR part 512.

Requesters are not required to keep copies of any records or reports submitted to us. As a result, the cost imposed to keep records would be zero hours and zero costs.

Number of Respondents: We estimate that there will be approximately 500 requests per year.

Summary of the Collection of Information: Any entity seeking confidential treatment for information submitted to NHTSA will be required to request confidential treatment from NHTSA and to justify that request. To obtain confidential treatment of submitted information, the submitting entity must comply with the requirements in NHTSA's CBI regulation and satisfy the requirements for one of the exemptions provided under the FOIA, 5 U.S.C. 552(b).

ADDRESSES: Send comments, within 30 days, to the Office of Information and Regulatory Affairs, Office of Management and Budget, 725 17th Street NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

Issued in Washington, DC, under authority delegated in 49 CFR part 1.95.
Jack Danielson,
Acting Deputy Administrator.

[FR Doc. 2017-08136 Filed 4-20-17; 8:45 am]

BILLING CODE 4910-59-P